DEPARTMENT OF ENERGY

Federal Energy Regulatory Commission

[Project No. 2725-076]

Oglethorpe Power Corporation; Notice of Revised Procedural Schedule for the Proposed Project Relicense

On December 6, 2024, Oglethorpe Power Corporation filed an application to relicense the 904-megawatt Rocky Mountain Pumped Storage Project No. 2725 (project). On March 4, 2025, Commission staff issued a notice of application accepted for filing and soliciting motions to intervene and protests. The notice included an anticipated schedule for scoping and notice of ready for environmental analysis.

By this notice, the Federal Energy Regulatory Commission is revising the procedural schedule for the project. The revised schedule is shown below. Further revisions to the schedule may be made as appropriate.

Milestone | Target date
Issue Scoping Document 1 for comments | September 2025.
Comments on Scoping Document 1 | October 2025.
Issue Scoping Document 2 (if necessary) | December 2025.
Issue Notice of Ready for Environmental Analysis | December 2025.

Any questions regarding this notice may be directed to David Gandy at 202-502-8560, or david.gandy@ferc.gov.

Dated: May 12, 2025.
Debbie-Anne A. Reese,
Secretary.

[FR Doc. 2025-08837 Filed 5-16-25; 8:45 am]

BILLING CODE 6717-01-P